DEPARTMENT OF ENERGY

Office of Fossil Energy

Order Vacating Authorizations

AGENCY: Office of Fossil Energy (FE), Department of Energy (DOE).

ACTION: Notice of Vacating Orders.

SUMMARY: DOE is vacating unused natural gas import and export authorizations.

FOR FURTHER INFORMATION CONTACT: Beverly Howard, Larine A. Moore, Office of Natural Gas Regulatory Activities, Office of Oil and Gas Global Security and Supply, P.O. Box 44375, Washington, DC 20026-4375. (202) 586-9387. (202) 586-9478.

SUPPLEMENTARY INFORMATION: The Office of Fossil Energy (FE) of the Department of Energy is delegated the authority to regulate natural gas import and export under section 3 of the Natural Gas Act of 1938, 15 U.S.C. 717b. Persons seeking to import or export natural gas are required to file with FE an application containing basic information about the scope and nature of a proposed import or export. Most applications are approved automatically and the orders granting approval require those authorized to report import and export activity on a periodic basis. The data collected is used to monitor the North American natural gas trade and facilitate market analysis.

Over the years many two-year, blanket authorizations have been issued with no start date and terms to be triggered by reporting activity. Although required by the authorization, many of these license holders have not submitted activity reports. In addition, FE attempts to contact non-compliant authorization holders have been unsuccessful. FE is vacating these authorizations in order to remove unused authorizations from the FE database and improve information collection and trade monitoring.

Order

In accordance with DOE policy and pursuant to section 3 of the Natural Gas Act, it is ordered that the authorizations listed in the attached Appendix are vacated effective the date of the issuance of this notice.

Issued in Washington, DC, January 31, 2006
R.F. Corbin,
Manager, Natural Gas Regulatory Activities, Office of Oil and Gas Global Security and Supply, Office of Fossil Energy.

Appendix

Docket No. | Order No. | Importer/exporter | Application received | Date order issued
89-28-NG | 325 | Western Energy, Inc | 06-Apr-88 | 14-Aug-89.
89-37-NG | 337 | Vesgas Company | 24-Feb-89 | 27-Sep-89.
89-40-NG | 355 | Norbac International Corporation | 07-Jul-89 | 06-Dec-89.
89-42-NG | 341 | Panhandle Trading Company | 08-Jun-89 | 24-Oct-89.
89-51-NG | 340 | Harbert Energy Corporation | 31-Jul-89 | 13-Oct-89.
89-81-NG | 391 | Yuma Gas Corporation | 15-Nov-89 | 10-Apr-90.
90-21-NG | 412 | Brooklyn Interstate Natural Gas Corporation | 30-Mar-90 | 30-Jul-90.
90-26-NG | 405 | Cherhill Resources Inc | 11-Apr-90 | 26-Jun-90.
90-54-NG | 421 | Trans Marketing Houston, Inc | 06-Jun-90 | 20-Sep-90.
90-57-NG | 432 | Tejas Power Corporation | 26-Jun-90 | 09-Oct-90.
90-58-NG | 433 | Transco Energy Marketing Company | 26-Jun-90 | 09-Oct-90.
90-83-NG | 497 | Chippewa Gas Corporation | 24-Sep-90 | 24-Apr-91.
90-86-NG | 464 | Neste Trading (USA), Inc | 28-Sep-90 | 20-Dec-90.
90-86-NG | 464A | Neste Trading (USA), Inc | 28-Jan-91 | 20-Feb-91.
90-91-NG | 476 | Fuel Services Group, Inc | 23-Oct-90 | 06-Feb-91.
91-18-NG | 525 | Transok Gas Company | 28-Feb-91 | 30-Jul-91.
91-18-NG | 525A | Transok Gas Company | 08-Apr-92 | 07-Apr-92.
91-23-NG | 520 | Puget Sound Power & Light Company | 26-Mar-91 | 22-Jul-91.
91-27-NG | 519 | Venro Petroleum Corporation | 10-Apr-91 | 22-Jul-91.
91-28-NG | 530 | KCS Energy Marketing, Inc | 08-Apr-91 | 09-Sep-91.
91-28-NG | 530A | KCS Energy Marketing, Inc | 29-Aug-95 | 09-Sep-91.
91-41-NG | 547 | Tennessee Gas Pipeline Company | 24-Jun-91 | 18-Nov-91.
91-43-NG | 557 | American Natural Gas Corporation | 26-Jun-91 | 10-Dec-91.
91-52-NG | 540 | Texaco Natural Gas Inc | 22-Jul-91 | 25-Oct-91.
91-52-NG | 1032 | Texaco Natural Gas Inc | 22-Jul-91 | 14-Mar-95.
91-55-NG | 553 | Hadson Gas Systems, Inc | 26-Jul-91 | 02-Dec-91.
91-60-NG | 548 | Tranam Energy Inc | 06-Aug-91 | 18-Nov-91.
91-65-NG | 546 | Delhi Gas Pipeline Corporation | 16-Aug-91 | 15-Nov-91.
91-67-NG | 549 | Kimball/Trippe Energy Associates | 06-Aug-91 | 18-Nov-91.
91-72-NG | 566 | Sun Operating Limited Partnership | 06-Sep-91 | 27-Dec-91.
91-79-NG | 554 | Enmark Gas Corporation | 27-Sep-91 | 02-Dec-91.
91-82-NG | 560 | The Maple Gas Corporation | 08-Oct-91 | 18-Dec-91.
91-85-LNG | 570 | Texaco Natural Gas Inc | 15-Oct-91 | 31-Dec-91.
91-85-LNG | 1032 | Texaco Natural Gas Inc | 15-Oct-91 | 14-Mar-95.
91-89-NG | 577 | Aectra Refining and Marketing, Inc | 28-Oct-91 | 24-Jan-92.
91-99-NG | 580 | Petro Source Corporation | 18-Nov-91 | 24-Feb-92.
91-104-NG | 634 | Global Petroleum Corporation | 04-Dec-91 | 12-Jun-92.
91-113-NG | 608 | Tangram Transmission Corporation | 23-Dec-91 | 24-Apr-92.
91-117-NG | 593 | Rio Energy International, Inc | 24-Dec-91 | 18-Mar-92.
92-2-NG | 618 | Bray Terminals, Inc | 15-Jan-92 | 18-May-92.
92-6-NG | 604 | Sergeant Oil & Gas Company, Inc | 27-Jan-92 | 17-Apr-92.
92-7-NG | 624 | Ledco, Inc | 06-Mar-90 | 29-May-92.
92-8-NG | 601 | National Gas Resources Ltd. Partnership | 03-Feb-92 | 14-Apr-92.
92-9-NG | 629 | Alcorn Trading Company, Inc | 03-Feb-92 | 12-Jun-92.
92-11-NG | 617 | Highland Energy Company | 05-Feb-92 | 18-May-92.
92-15-NG | 636 | Iroquois Gas Transmission System, L.P | 07-Feb-92 | 12-Jun-92.
92-15-NG | 636A | Iroquois Gas Transmission System, L.P | 13-Jul-92 | 06-Aug-92.
92-17-NG | 621 | Mountain Gas Resources, Inc | 10-Feb-92 | 21-May-92.
92-21-NG | 612 | Exxon Corporation | 20-Feb-92 | 30-Apr-92.
92-28-NG | 626 | Signal Fuels Trading Corporation | 02-Mar-92 | 03-Jun-92.
92-40-NG | 632 | Enmark Gas Corporation | 23-Mar-92 | 12-Jun-92.
92-42-NG | 645 | Kimball Energy Corporation | 24-Mar-92 | 28-Jul-92.
92-45-NG | 649 | Cornerstone Gas Resources, Inc | 02-Apr-92 | 29-Jul-92.
92-45-NG | 649A | Cornerstone Gas Resources, Inc | 25-Jul-94 | 01-Aug-94.
92-56-NG | 657 | Unocal Canada Limited | 27-Apr-92 | 06-Aug-92.
92-58-NG | 685 | Fulton Cogeneration Associates | 29-Apr-92 | 19-Oct-92.
92-62-NG | 660 | SDS Petroleum Products, Inc | 19-May-92 | 24-Aug-92.
92-65-NG | 654 | Saratoga Natural Gas Inc | 26-May-92 | 05-Aug-92.
92-67-NG | 673 | Columbus Energy Corporation | 04-Jun-92 | 24-Sep-92.
92-74-NG | 667 | J. Aron & Company | 02-Mar-92 | 11-Sep-92.
92-77-NG | 669 | Louis Dreyfus Natural Gas Corporation | 22-Jun-92 | 17-Sep-92.
92-79-NG | 686 | Czar Gas Corporation Inc | 23-Jun-92 | 21-Oct-92.
92-80-NG | 661 | EMC Gas Transmission Company | 23-Jun-92 | 24-Aug-92.
92-83-NG | 688 | Graham Energy Marketing Corporation | 25-Jun-92 | 22-Oct-92.
92-84-NG | 687 | Allegheny Energy Marketing Company | 30-Jun-92 | 21-Oct-92.
92-87-NG | 695 | Pacwest Resources, Inc | 07-Jul-92 | 23-Oct-92.
92-88-NG | 663 | Nicholson & Associates, Inc | 07-Jul-92 | 04-Sep-92.
92-89-NG | 679 | BP Gas Inc | 07-Jul-92 | 07-Oct-92.
92-99-NG | 703 | Neste Trading (USA), Inc | 30-Jul-92 | 09-Nov-92.
92-107-NG | 684 | GPM Gas Corporation | 18-Aug-92 | 19-Oct-92.
92-110-NG | 708 | Wascana Energy Marketing (U.S.) Inc | 24-Aug-92 | 13-Nov-92.
92-110-NG | 708A | Wascana Energy Marketing (U.S.) Inc | 04-Jan-94 | 13-Jan-94.
92-113-NG | 740 | International Resource Management Corporation | 27-Aug-92 | 30-Nov-92.
92-114-NG | 700 | Libra Marketing Company | 02-Sep-92 | 06-Nov-92.
92-119-NG | 733 | Multi Energies Inc | 7-Sep-92 | 20-Nov-92.
92-124-NG | 728 | Santana Resources Limited | 28-Sep-92 | 20-Nov-92.
92-136-NG | 752 | Canton-Potsdam Hospital | 02-Nov-92 | 16-Dec-92.
92-137-NG | 738 | Wal/ox | 04-Nov-92 | 25-Nov-92.
92-141-NG | 712 | City of Holyoke Gas & Electric Department | 09-Nov-92 | 13-Nov-92.
92-144-NG | 715 | Valley Gas Company | 09-Nov-92 | 13-Nov-92.
92-145-NG | 716 | Fitchburg Gas and Electric Light Company | 09-Nov-92 | 13-Nov-92.
92-146-NG | 761 | AGE Refining, Inc | 12-Nov-92 | 21-Jan-93.
92-146-NG | 761A | AGE Refining, Inc | 03-May-93 | 15-Jun-93.
92-152-NG | 750 | Texpar Energy, Inc | 25-Nov-92 | 15-Dec-92.
93-2-NG | 764 | Western Natural Gas & Transmission Corp | 06-Jan-93 | 22-Jan-93.
93-5-NG | 767 | Lenape Resources Corporation | 26-Jan-93 | 16-Feb-93.
93-16-NG | 772 | TM Star Fuel Company | 04-Feb-93 | 16-Feb-93.
93-19-NG | 596A | Tenneco Gas Marketing Company | 15-Feb-94 | 25-Feb-94.
93-20-NG | 796 | Meridian Marketing & Transmission Corporation | 02-Mar-93 | 30-Apr-93.
93-26-NG | 814 | Western Gas Resources, Inc | 02-Mar-93 | 25-Jun-93.
93-29-NG | 802 | Mexus Trading Company | 05-Mar-93 | 10-May-93.
93-35-NG | 811 | Meridian Marketing & Transmission Corporation | 25-Mar-93 | 24-Jun-93.
93-51-NG | 807 | Husky Gas Marketing Inc | 11-May-93 | 02-Jun-93.
93-56-NG | 828 | Texas International Gas & Oil Company | 03-Jun-93 | 30-Jul-93.
93-59-NG | 839 | Bonus Gas Processors, Inc | 21-Jun-93 | 31-Aug-93.
93-65-NG | 819 | Northridge Gas Marketing U.S., Inc | 30-Jun-93 | 13-Jul-93.
93-65-NG | 1021 | Northridge Gas Marketing U.S., Inc | 30-Jun-93 | 19-Jan-95.
93-66-NG | 848 | Northridge Gas Marketing U.S., Inc | 30-Jun-93 | 30-Sep-93.
93-66-NG | 1021 | Northridge Gas Marketing U.S., Inc | 30-Jun-93 | 19-Jan-95.
93-69-NG | 843 | Mobil Natural Gas Inc | 02-Jul-93 | 24-Sep-93.
93-80-NG | 831 | Utility—2000 Energy Corporation | 02-Aug-93 | 09-Aug-93.
93-88-NG | 889 | Consumers' Gas Company Ltd | 02-Sep-93 | 09-Dec-93.
93-103-NG | 863 | Cabot Oil & Gas Production Corporation | 27-Sep-93 | 18-Oct-93.
93-103-NG | 863A | Cabot Oil & Gas Production Corporation | 24-Jun-94 | 05-Jul-94.
93-104-NG | 884 | ANR Gas Supply Company | 16-Sep-93 | 30-Nov-93.
93-106-NG | 870 | Granite State Gas Transmission, Inc | 01-Oct-93 | 28-Oct-93.
93-109-NG | 875 | Midwest Gas, a Division of Midwest Power Systems Inc | 12-Oct-93 | 12-Nov-93.
93-125-NG | 907 | Transtexas Gas Corporation | 15-Nov-93 | 03-Jan-94.
93-133-NG | 890 | Salmon Resources Ltd & Cogen Energy Technology | 07-Oct-91 | 13-Dec-93.
93-138-NG | 886 | Saskenergy Incorporated | 02-Dec-93 | 08-Dec-93.
93-146-NG | 906 | Great West Energy Inc | 09-Sep-91 | 03-Jan-94.
93-150-NG | 905 | Catex Vitol Gas, Inc | 11-Dec-90 | 03-Jan-94.
94-23-NG | 935 | Global Energy Services, LLC | 23-Mar-94 | 29-Apr-94.
94-23-NG | 935A | Global Energy Services, LLC | 13-Jan-97 | 13-Mar-97.
94-26-NG | 937 | Transok Gas Company | 25-Mar-94 | 02-May-94.
94-33-NG | 948 | American Gas & Technology, Inc | 14-Apr-94 | 16-May-94.
94-34-NG | 944 | SDS Petroleum Products, Inc | 06-Apr-94 | 03-May-94.
94-38-NG | 953 | Phibro Division of Salomon Inc | 07-Sep-93 | 01-Jun-94.
94-42-NG | 961 | Pennzoil Gas Marketing Company | 07-Sep-93 | 27-Jun-94.
94-57-NG | 970 | Anadarko Trading Company | 12-Aug-94 | 31-Aug-94.
94-62-NG | 973 | Greenfield Fuel Oil Company, Inc | 01-Sep-94 | 12-Sep-94.
94-72-NG | 1003 | Sunalta Energy Marketing Inc | 18-May-90 | 04-Nov-94.
94-83-NG | 988 | MGI Supply Ltd | 07-Oct-94 | 14-Oct-94.
94-92-NG | 1004 | Bring Gas Services Corporation | 03-Nov-94 | 08-Nov-94.
94-104-NG | 1016 | The Clean Air Fuels Corporation | 21-Dec-94 | 30-Dec-94.
00-74-LNG | 1640 | Enron LNG Marketing LLC | 18-Oct-00 | 03-Nov-00.
01-18-NG | 1682 | Aquila Canada Capital and Trade Corporation | 04-May-01 | 21-May-01.
01-19-NG | 1681 | Aquila Capital and Trade Ltd | 04-May-01 | 21-May-01.
01-20-NG | 1680 | Aquila Canada Capital and Trade Corporation | 04-May-01 | 17-May-01.
01-21-LNG | 1685 | Tractebel Energy Marketing, Inc | 15-May-01 | 24-May-01.
01-23-LNG | 1684 | Conoco Inc | 21-May-01 | 23-May-01.
01-54-LNG | 1718 | Small Ventures U.S.A., L.L.C | 05-Oct-01 | 16-Oct-01.
01-61-NG | 1728 | Nova Scotia Power Inc | 16-Oct-01 | 30-Oct-01.
01-64-NG | 1729 | CEG Energy Options Inc | 30-Oct-01 | 30-Oct-01.

[FR Doc. E6-2771 Filed 2-27-06; 8:45 am]

BILLING CODE 6450-01-P